DEPARTMENT OF AGRICULTURE

Rural Business-Cooperative Service

Notice of Request for Revision of a Currently Approved Information Collection

AGENCY: Rural Business-Cooperative Service, USDA

ACTION: Notice and request for comments.

SUMMARY: In accordance with the Paperwork Reduction Act of 1995, the Rural Business-Cooperative Service gives notice that it is requesting from the Office of Management and Budget (OMB) approval of a revision to a currently approved information collection for the Advanced Biofuel Payment Program.

DATES: Comments on this notice must be received by June 26, 2017 to be assured of consideration.

FOR FURTHER INFORMATION CONTACT: Contact Lisa Noty, U.S. Department of Agriculture, 511 W. 7th Street, Atlantic, IA 50022, email: lisa.noty@wdc.usda.gov, phone (712) 243-2107 x116, fax (855)-251-2238.

SUPPLEMENTARY INFORMATION: Title: Advanced Biofuel Payment Program.

OMB Number: OMB No. 0570-0063.

Expiration Date of Approval: September 30, 2017.

Type of Request: Revision of a currently approved information collection.

Abstract: The Advanced Biofuel Payment Program was authorized under section 9005 of Title IX of the Food, Conservation, and Energy Act of 2008 (2008 Farm Bill). It authorizes the Agency to enter into contracts to make payments to eligible entities to support and ensure an expanding production of advanced biofuels. Entities eligible to receive payments under the Program are producers of advanced biofuels that meet all of the requirements of the Program.

Estimate of Burden: Public reporting burden for this collection of information is estimated to average 0.89 hours per response.

Respondents: The respondents are the advanced biofuel producers and Agency staff who process applications and quarterly payment requests.

Estimated Number of Respondents: 275 advanced biofuel producers.

Estimated Number of Responses per Respondent: 7.2.

Estimate Number of Responses: 1,986.

Estimated Total Annual Burden on Respondents: 1,761 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Jeanne Jacobs, Regulations and Paperwork Management Branch, U.S. Department of Agriculture, Rural Development, Stop 0742, 1400 Independence Ave. SW., Washington, DC 20250. All comments received will be available for public inspection during regular business hours at the same address.

All responses to this notice will be summarized and included in the request for OMB approval. All comments will become a matter of public record.

Dated: April 18, 2017.
Chad Parker,
Acting Administrator, Rural Business-Cooperative Service.

[FR Doc. 2017-08323 Filed 4-24-17; 8:45 am]

BILLING CODE 3410-XY-P